DEPARTMENT OF HOMELAND SECURITY

Federal Emergency Management Agency

44 CFR Part 67

[Docket No. FEMA-B-7441]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the below table.

FOR FURTHER INFORMATION CONTACT: Doug Bellomo, P.E. Hazard Identification Section, Emergency Preparedness and Response Directorate, Federal Emergency Management Agency, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

Flooding source(s) | Location of referenced elevation | Elevation in feet *(NGVD) Elevation in feet •(NVAD): Effective | Elevation in feet *(NGVD) Elevation in feet •(NVAD): Modified | Communities affected
Sioux County, and Incorporated Areas
Cannonball River | Approximately 4,300 feet downstream of Rice Street | None | •1,658 | Standing Rock Indian Reservation, ND and City of Solen
| Approximately 7,700 feet upstream of Rice Street | None | •1,668 |
Grand River (at Bullhead) | Approximately 4,000 feet downstream of confluence of Rock Creek | None | •1,759 | Standing Rock Indian Reservation, SD
| Approximately 4,600 feet upstream of confluence of Stink Creek | None | •1,774 |
Grand River (at Little Eagle) | Approximately 3.4 miles downstream of the State Route 63 | None | •1,638 | Standing Rock Indian Reservation, SD
| Approximately 2,000 feet upstream of Old Irrigation Dam | None | •1,651 |
Oak Creek | Approximately 7,500 feet downstream of Sewage Lagoons | None | •1,622 | Standing Rock Indian Reservation, SD
| Approximately 2,900 feet upstream of Old Irrigation Dam | None | •1,646 |
Rock Creek | At confluence with Grand River (at Bullhead) | None | •1,761 | Standing Rock Indian Reservation, SD
| Approximately 7,500 feet upstream of Bullhead Road | None | •1,793 |
# Depth in feet above ground
* National Geodetic Datum
• National American Vertical Datum
Addresses:
Standing Rock Indian Reservation, ND & SD:
Maps are available for inspection at the Department of Tribal Land Management, South River Road, Fort Yates, North Dakota 58538.
Send comments to the Honorable Charles Murphy, Chairman, Standing Rock Sioux Tribe, P.O. Box D, Fort Yates, North Dakota 58538.
City of Solen:
Maps are available for inspection at the Engineering Department, 306 Leach Street, Solen, North Dakota 58570.
Send comments to the Honorable Larry Froelich, Mayor, City of Solen, P.O. Box 117, Solen, North Dakota 58570.

State | City/town/county | Source of flooding | Location | #Depth in feet above ground. * Elevation in feet. (NGVD): Existing | #Depth in feet above ground. * Elevation in feet. (NGVD): Modified
South Dakota | Hill (City), Pennington County | Spring Creek | Approximately 1.2 miles upstream of U.S. Highway 16/385 | None | * 4,934
|  |  | Approximately 1.3 miles upstream of U.S. Highway 16/385 | * 4,937 | * 4,937
# Depth in feet above ground
* Elevation in feet
Maps are available for inspection at City Hall, 324 Main Street, Hill City, South Dakota 57745.
Send comments to The Honorable Peter J. Stach, Mayor, City of Hill City, P.O. Box 395, Hill city, South Dakota 57745.
South Dakota | Pennington County | Spring Creek (downstream of corporate limit of City of Hill City) | At Calumet Road | None | * 4,640
|  |  | Approximately 1.2 miles upstream of U.S. Highway 16/385 | None | * 4,934
|  | Spring Creek (upstream of corporate limit of City of Hill City) | Approximately 400 feet upstream of the Burlington Northern Railroad | * 5,010 | * 5,014
|  |  | Approximately 1 mile upstream of U.S. Highway 16/385 | None | * 5,309
# Depth in feet above ground
* Elevation in feet
Maps are available for inspection at the County Courthouse, 315 Saint Joseph Street, Rapid City, South Dakota 57701.
Send comments to The Honorable Kenneth Davis, Chairperson, Pennington County Board of Commissioners, 315 Saint Joseph Street, Rapid City, South Dakota 57701.

(Catalog of Federal Domestic Assistance No. 83.100, “Flood Insurance.”)

Dated: November 4, 2003.
Anthony S. Lowe,
Mitigation Division Director, Emergency Preparedness and Response Directorate.

[FR Doc. 03-28168 Filed 11-7-03; 8:45 am]

BILLING CODE 9110-12-P